DEPARTMENT OF THE INTERIOR

National Park Service

[NPS-WASO-D-COS-POL-39129; PPWODIREP0, PPMPSAS1Y.YP0000]

Notice of Public Meeting for the National Park System Advisory Board

AGENCY: National Park Service, Interior.

ACTION: Meeting notice.

SUMMARY: In accordance with the Federal Advisory Committee Act of 1972, as amended, the National Park Service (NPS) is hereby giving notice that the National Park System Advisory Board (Board) will meet as noted below.

DATES: The Board will meet virtually on Wednesday, March 19, 2025, from 12 p.m. until 4 p.m. (eastern). Individuals who wish to participate must contact the person listed in the FOR FURTHER INFORMATION CONTACT section no later than Monday, March 17, 2025, to receive instructions for accessing the meeting. The meeting will be held online through the Teams platform and is open to the public.

ADDRESSES: The meeting will be accessible virtually via webinar and audio conference technology. Electronic submissions of materials or requests to speak at the meeting are to be sent to alma_ripps@nps.gov.

FOR FURTHER INFORMATION CONTACT: For information concerning attending the Board meeting or to request to address the Board, contact Alma Ripps, Designated Federal Officer, National Park Service, telephone (202) 354-3951, or email alma_ripps@nps.gov. Written comments specific to any Board matter must be submitted by no later than March 12, 2025. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Board has been established by authority of the Secretary of the Interior under 54 U.S.C. 100906 and is regulated by the Federal Advisory Committee Act. All meetings are open to the public.

Purpose of the Meeting: The Board will be discussing the final recommendations related to Executive Order 14121, Recognizing and Honoring Women's History, and other topics as appropriate. There will be an opportunity for public comment. The final agenda and briefing materials will be posted to the Board's website prior to the meeting at https://www.nps.gov/resources/advisoryboard150.htm. Interested parties may attend the Board meeting virtually and, upon request, may choose to make oral comments at the virtual meeting during the designated time for this purpose. Depending on the number of people wishing to comment and the time available, the amount of time for oral comments may be limited.

Interested parties should contact Alma Ripps (see FOR FURTHER INFORMATION CONTACT) for advance placement on the public speaker list for this meeting. Members of the public may also choose to submit written comments by emailing them to alma_ripps@nps.gov. Due to time constraints during the meeting, the Board is not able to read written public comments submitted into the record. All comments will be made part of the public record and will be electronically distributed to all Board members. Detailed minutes of the meeting will be available for public inspection within 90 days of the meeting.

Meeting Accessibility/Special Accommodations: Please make requests in advance for sign language interpreter services, assistive listening devices, language translation services, or other reasonable accommodations. We ask that you contact the person listed in the FOR FURTHER INFORMATION CONTACT section of this notice at least seven (7) business days prior to the meeting to give the Department of the Interior sufficient time to process your request. All reasonable accommodation requests are managed on a case-by-case basis.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. ch. 10.

Alma Ripps,
Chief, Office of Policy.

[FR Doc. 2024-29556 Filed 12-13-24; 8:45 am]

BILLING CODE 4312-52-P